DEPARTMENT OF COMMERCE

National Oceanic and Atmospheric Administration

[I.D. 021706C]

Mid-Atlantic Fishery Management Council (MAFMC); Meeting

AGENCY: National Marine Fisheries Service (NMFS), National Oceanic and Atmospheric Administration (NOAA), Commerce.

ACTION: Notice of public meeting.

SUMMARY: The Trawl Survey Advisory Panel, composed of representatives from the National Marine Fisheries Service's Northeast Fisheries Science Center (NEFSC), the Mid-Atlantic Fishery Management Council (MAFMC), the New England Fishery Management Council (NEFMC), and several independent scientific researchers, will hold a public meeting.

DATES: March 8, 2006 from 1 p.m. to 6 p.m. and March 9, 2006 from 8 a.m. to 2 p.m.

ADDRESSES: The meeting will be held at the Hilton Garden Inn, Providence Airport, One Thurber Street, Jefferson Boulevard, Warwick, RI 02886 telephone 401-734-9600.

Council address: Mid-Atlantic Fishery Management Council; 300 S. New Street, Room 2115, Dover, DE 19904.

FOR FURTHER INFORMATION CONTACT: Daniel T. Furlong, Executive Director, Mid-Atlantic Fishery Management Council; 300 S. New Street, Room 2115, Dover, DE 19904, telephone 302-674-2331, ext. 19.

SUPPLEMENTARY INFORMATION: The purpose of this meeting is to review the results of the February Northeast Fisheries Science Center's experimental trawl survey cruise and continue to develop and evaluate survey protocols for the new survey.

Special Accommodations

This meeting is physically accessible to people with disabilities. Requests for sign language interpretation or other auxiliary aids should be directed to Jan Saunders at the Mid-Atlantic Council Office at least five days prior to the meeting date.

Dated: February 17, 2006.
Tracey L. Thompson,
Acting Director, Office of Sustainable Fisheries, National Marine Fisheries Service.

[FR Doc. E6-2553 Filed 2-22-06; 8:45 am]

BILLING CODE 3510-22-S